SECURITIES AND EXCHANGE COMMISSION

[Release No. 34-60154; File No. SR-CTA-2008-01]

Consolidated Tape Association; Notice of Filing of the Eleventh Charges Amendment to the Second Restatement of the Consolidated Tape Association Plan To Waive the Automatic Annual Increase in the Enterprise Cap for 2008

June 19, 2009.

Pursuant to Section 11A of the Securities Exchange Act of 1934 (“Act”),¹ and Rule 608 thereunder,² notice is hereby given that on June 7, 2009, the Consolidated Tape Association (“CTA”) Plan Participants (“Participants”) ³ filed with the Securities and Exchange Commission (“Commission”) a proposal to amend the Second Restatement of the CTA Plan (the “CTA Plan”).⁴ The proposal represents the eleventh charges amendment to the Plan (“Eleventh Charges Amendment”) and reflects changes unanimously adopted by the Participants. The Eleventh Charges Amendment would waive the Automatic Annual Increase for 2008 in the maximum monthly charge that a broker-dealer is required to pay in respect of the aggregate amount of Network A display-device charges and per-quote-packet charges that a broker-dealer pays in respect of nonprofessional subscribers that maintain brokerage accounts with the broker-dealers (the “Enterprise Cap”). The Commission is publishing this notice to solicit comments from interested persons on the proposed Eleventh Charges Amendment to the CTA Plan.

¹ 15 U.S.C. 78k-1.

² 17 CFR 242.608.

³ Each Participant executed the proposed amendment. The Participants are the American Stock Exchange LLC (n/k/a NYSE Amex LLC); Boston Stock Exchange, Inc. (n/k/a NASDAQ OMX BX, Inc.); Chicago Board Options Exchange, Incorporated; Chicago Stock Exchange, Inc.; Financial Industry Regulatory Authority, Inc., International Securities Exchange, LLC; The NASDAQ Stock Market LLC; National Stock Exchange, Inc.; New York Stock Exchange LLC (“NYSE”); NYSE Arca, Inc.; and Philadelphia Stock Exchange, Inc. (n/k/a NASDAQ OMX PHLX, Inc.).

⁴ The proposal was originally submitted on June 19, 2008. However, it was refiled on June 7, 2009 with appropriate exhibits.

I. Rule 608(a)

A. Description and Purpose of the Amendment

The Plan currently caps the maximum monthly charge that a broker-dealer is required to pay in respect of the aggregate amount of: (1) Network A display-device charges for devices that the broker-dealer's officers, partners and employees use; plus (2) Network A display-device and per-quote-packet charges that the broker-dealer pays in respect of services that it provides to nonprofessional subscribers that are brokerage account customers of the broker-dealer.⁵

⁵ Enterprise Cap found in Schedule A-1 of Exhibit E to the CTA Plan.

Footnote 5 to Schedule A-1 of Exhibit E to the CTA Plan subjects the Enterprise Cap to an automatic annual increase. The automatic annual increase is equal to “the percentage increase in the annual composite share volume for the preceding calendar year, subject to a maximum annual increase of five percent.”

Through this amendment, the Participants propose to amend the CTA Plan to waive the automatic annual increase in the Enterprise Cap for 2008. As a result, the monthly fee will remain at $660,000 for 2008, the same amount as for 2007. The waiver applies to the Enterprise Cap only, and not to the “Television Ticker Maximum,” also set forth in Footnote 6 to Schedule A-1 of Exhibit E to the CTA Plan. The amendment also proposes to update Footnote 6 by applying the automatic annual increase to the “Television Ticker Maximum,” by bringing that monthly fee to $157,000 for 2008.

The text of the proposed Amendment is available on the CTA's Web site (http://www.nysedata.com/cta), at the principal office of the CTA, and at the Commission's Public Reference Room.

B. Additional Information Required by Rule 608(a)

1. Governing or Constituent Documents

Not applicable.

2. Implementation of the Amendment

The Participants propose to implement the change upon receipt of Commission approval of the Amendment.

3. Development and Implementation Phases

See Item I(B)(2) above.

4. Analysis of Impact on Competition

The amendment will impose no burden on competition.

5. Written Understanding or Agreements Relating to Interpretation of, or Participation in, Plan

The Participants have no written understandings or agreements relating to interpretation of the CTA Plan as a result of the amendment.

6. Approval by Sponsors in Accordance With Plan

Under Section IV(b) of the CTA Plan, each Plan Participant must execute a written amendment to the CTA Plan before the amendment can become effective. The amendment is so executed.

7. Description of Operation of Facility Contemplated by the Proposed Amendment

a. Terms and Conditions of Access

Not applicable.

b. Method of Determination and Imposition, and Amount of, Fees and Charges

Not applicable.

c. Method of Frequency of Processor Evaluation

Not applicable.

d. Dispute Resolution

Not applicable.

II. Rule 601(a)

A. Equity Securities for Which Transaction Reports Shall be Required by the Plan.

Not applicable.

B. Reporting Requirements

Not applicable.

C. Manner of Collecting, Processing, Sequencing, Making Available and Disseminating Last Sale Information

Not applicable.

D. Manner of Consolidation

Not applicable.

E. Standards and Methods Ensuring Promptness, Accuracy and Completeness of Transaction Reports

Not applicable.

F. Rules and Procedures Addressed to Fraudulent or Manipulative Dissemination

Not applicable.

G. Terms of Access to Transaction Reports

Not applicable.

H. Identification of Marketplace Execution

Not applicable.

III. Solicitation of Comments

Interested persons are invited to submit written data, views, and arguments concerning the foregoing, including whether the proposed Eleventh Charges Amendment is consistent with the Act. Comments may be submitted by any of the following methods:

Electronic Comments

• Use the Commission's Internet comment form (http://www.sec.gov/rules/sro.shtml); or

• Send an e-mail to rule-comments@sec.gov. Please include File Number SR-CTA-2008-01 on the subject line.

Paper Comments

• Send paper comments in triplicate to Elizabeth M. Murphy, Secretary, Securities and Exchange Commission, 100 F Street, NE., Washington, DC 20549-1090.

All submissions should refer to File Number SR-CTA-2008-01. This file number should be included on the subject line if e-mail is used. To help the Commission process and review your comments more efficiently, please use only one method. The Commission will post all comments on the Commission's Internet Web site (http://www.sec.gov/rules/sro.shtml). Copies of the submission, all subsequent amendments, all written statements with respect to the Plan amendment that are filed with the Commission, and all written communications relating to the Plan amendment between the Commission and any person, other than those that may be withheld from the public in accordance with the provisions of 5 U.S.C. 552, will be available for inspection and copying in the Commission's Public Reference Room, 100 F Street, NE., Washington, DC 20549, on official business days between the hours of 10 a.m. and 3 p.m. Copies of the CTA Plan amendment also will be available for inspection and copying at the principal office of the CTA. All comments received will be posted without change; the Commission does not edit personal identifying information from submissions. You should submit only information that you wish to make available publicly. All submissions should refer to File Number SR-CTA-2008-01 and should be submitted on or before July 20, 2009.

For the Commission, by the Division of Trading and Markets, pursuant to delegated authority.⁶
⁶ 17 CFR 200.30-3(a)(27).
Florence E. Harmon,
Deputy Secretary.

[FR Doc. E9-15223 Filed 6-26-09; 8:45 am]

BILLING CODE 8010-01-P